DEPARTMENT OF ENERGY

Federal Energy Regulatory Commission

Combined Notice of Filings #2

Take notice that the Commission received the following electric rate filings:

Docket Numbers: ER11-2694-002.

Applicants: Southern California Edison Company.

Description: Southern California Edison Company Submits Joint Progress Report and Request for Extension.

Filed Date: 08/31/2011.

Accession Number: 20110831-5217.

Comment Date: 5 p.m. Eastern Time on Thursday, September 22, 2011.

Docket Numbers: ER11-3572-002.

Applicants: Midwest Independent Transmission System Operator, Inc.

Description: Midwest Independent Transmission System Operator, Inc. submits tariff filing per 35: 09-20-11 Schedule 27 Amendment to be effective 5/14/2011.

Filed Date: 09/20/2011.

Accession Number: 20110920-5076.

Comment Date: 5 p.m. Eastern Time on Monday, September 26, 2011.

Docket Numbers: ER11-3980-000; ER11-3980-001.

Applicants: ORNI 14 LLC.

Description: Attachment A to Petition Amendment of ORNI 14 LLC.

Filed Date: 09/20/2011.

Accession Number: 20110920-5032.

Comment Date: 5 p.m. Eastern Time on Tuesday, October 04, 2011.

Docket Numbers: ER11-4569-000.

Applicants: CBK Group, LTD.

Description: CBK Group, LTD submits notice of cancellation of its market-based rate tariff.

Filed Date: 09/19/2011.

Accession Number: 20110919-0033.

Comment Date: 5 p.m. Eastern Time on Tuesday, October 11, 2011.

Docket Numbers: ER11-4570-000.

Applicants: PacifiCorp.

Description: PacifiCorp submits tariff filing per 35.15: Cancellation of Tariff Volume No. 8 to be effective 10/4/2011.

Filed Date: 09/20/2011.

Accession Number: 20110920-5035.

Comment Date: 5 p.m. Eastern Time on Tuesday, October 11, 2011.

Docket Numbers: ER11-4571-000.

Applicants: PacifiCorp.

Description: PacifiCorp submits tariff filing per 35.13(a)(2)(iii: Bountiful City Amended and Restated Parrish Sub Expansion Construction Agreement to be effective 11/20/2011.

Filed Date: 09/20/2011.

Accession Number: 20110920-5049.

Comment Date: 5 p.m. Eastern Time on Tuesday, October 11, 2011.

Docket Numbers: ER11-4572-000.

Applicants: NV Energy, Inc.

Description: NV Energy, Inc. submits tariff filing per 35.13(a)(2)(iii: Service Agreement No. 09-01804 Copper Mtn Interconnection to be effective 9/23/2011.

Filed Date: 09/20/2011.

Accession Number: 20110920-5057.

Comment Date: 5 p.m. Eastern Time on Tuesday, October 11, 2011.

Docket Numbers: ER11-4573-000.

Applicants: Evergreen Community Power LLC.

Description: Evergreen Community Power LLC submits tariff filing per 35.1: Baseline Tariff Filing to be effective 9/20/2011.

Filed Date: 09/20/2011.

Accession Number: 20110920-5062.

Comment Date: 5 p.m. Eastern Time on Tuesday, October 11, 2011.

Docket Numbers: ER11-4574-000.

Applicants: PJM Interconnection, LLC, Trans-Allegheny Interstate Line Company.

Description: PJM Interconnection, LLC submits tariff filing per 35.13(a)(2)(iii: TrAILCo submits revisions to PJM Tariff Attachment H-18 to be effective 11/19/2011.

Filed Date: 09/20/2011.

Accession Number: 20110920-5067.

Comment Date: 5 p.m. Eastern Time on Tuesday, October 11, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 20, 2011.
Nathaniel J. Davis, Sr.,
Deputy Secretary.

[FR Doc. 2011-24884 Filed 9-27-11; 8:45 am]

BILLING CODE 6717-01-P